DEPARTMENT OF HOMELAND SECURITY

Coast Guard

33 CFR Part 100

[Docket No. USCG-2023-0350]

Special Local Regulations; Beaufort Water Festival and Air Show, Beaufort, SC

AGENCY: Coast Guard, Department of Homeland Security (DHS).

ACTION: Notification of enforcement of regulation.

SUMMARY: The Coast Guard will enforce special local regulations at various locations in Captain of the Port Charleston from July 14, 2023, to July 22, 2023. Our regulation for marine events within the Captain of the Port (COTP) Charleston identifies the regulated areas for these annual events in South Carolina. This action is necessary to provide for the safety of life on these navigable waters during marine events. During the enforcement periods, if you are the operator of a vessel in the regulated area you must comply with directions from the COTP Charleston or designated representative.

DATES: The regulations in 33 CFR 100.704, will be enforced for the special local regulations identified in the SUPPLEMENTARY INFORMATION section below for the dates and times specified.

FOR FURTHER INFORMATION CONTACT: If you have questions about this notification of enforcement, call or email MST1 Thomas J. Welker, Sector Charleston, Waterways Management Division, U.S. Coast Guard; telephone (843) 740-3184, email CharlestonWaterways@uscg.mil.

SUPPLEMENTARY INFORMATION: The Coast Guard will enforce the following special local regulations in 33 CFR 100.704, Table 1 to § 100.704, during the hours specified on the dates listed in the following Table:

Dates and Times of Enforcement of 33 CFR 100.704 Special Local Regulations at Various Locations in the Captain of the Port Charleston in July 2023
No. | Date/time | Event/sponsor | Location | Regulated area
1 | July 14, 2023 through July 23, 2023: 8 a.m. to 5 p.m. each day | Beaufort Water Festival Sponsor: Beaufort Water Festival | Beaufort, SC | Location: All waters 200 yards from seawall at Waterfront Park extending from Lady's Island Bridge to Spanish Point in Beaufort, SC.
2 | July 22, 2023: noon to 5 p.m | Beaufort Water Festival Air Show Sponsor: Beaufort Water Festival | Beaufort, SC | Location: The following is a safety zone: A portion Beaufort River near Riverfront Park in Beaufort, SC. The zone is 700 feet wide by 2600 feet in length on waters of the Beaufort River encompassed within the following points: (1) 32°25′47″ N/080°40′44″ W, (2) 32°25′41″ N/080°40′14″ W, (3) 32°25′35″ N/080°40′16″ W, (4) 32°25′40″ N/080°40′46″ W.

This action is necessary to provide for the safety of life on these navigable waters during marine events. During the enforcement periods, as reflected in § 100.704(c), if you are the operator of a vessel in the regulated area you must comply with directions from the COTP Charleston or designated representative.

In addition to this notification of enforcement in the Federal Register, the Coast Guard plans to provide notification of this enforcement period via the Local Notice to Mariners and marine information broadcasts.

Dated: June 30, 2023.
C.F. Heard IV,
Commander, U.S. Coast Guard, Acting, Captain of the Port Sector Charleston.

[FR Doc. 2023-14276 Filed 7-5-23; 8:45 am]

BILLING CODE 9110-04-P